DEPARTMENT OF HEALTH AND HUMAN SERVICES

Administration for Community Living

Announce the Intent To Award an Administrative Supplement

ACTION: Announcing the Intent to Award an Administrative Supplement for two (2) Help America Vote Act (HAVA) Training and Technical Assistance (T/TA) grantees, the National Disability Rights Network (NDRN) 90HAVA0001 and the National Federation of the Blind (NFB) 90HAVA0002.

SUMMARY: The Administration for Community Living (ACL) announces the intent to award an administrative supplement to the current Help America Vote Act (HAVA) Training and Technical Assistance (T/TA) grantees held by the National Disability Rights Network (NDRN) and the National Federation of the Blind (NFB). The purpose of the HAVA programs are designed to establish and improve participation in the election process for individuals with a full range of disabilities. In each eligible state and territory, seven percent of HAVA funds are set aside for the Protection and Advocacy Systems (P&As) to ensure that individuals with disabilities have the opportunity to participate in every step of the voting process. After receiving training and technical assistance, P&As may inform others on the availability of accessible voting equipment and its use. The administrative supplement for FY 2018 will be in the amount of $122,721 bringing the total award for FY 2018 to $462,590.

Program Name: Help America Vote Act Training and Technical Assistance.

Recipients: National Disability Rights Network (NDRN) and National Federation of the Blind (NFB).

Period of Performance: The supplement award will be issued for the second year of the two-year project period of September 1, 2018, through August 30, 2019.

Total Award Amount: NDRN $326,274 in FY 2018 NFB $136,316 in FY2018.

Award Type: Administrative Supplement.

Statutory Authority: This program is authorized under Title II, Subtitle D, Part 5 of HAVA 42 U.S.C. 15461-62, Section 102 of the Developmental Disabilities Assistance and Bill of Rights Act of 2000 (DD Act) (42 U.S.C. 15002).

Basis for Award: The additional funding will not be used to begin new projects. The funding will be used to increase NDRN's capacity building efforts to provide training and technical assistance to the Protection and Advocacy Systems in the electoral process and NFB will be able to attend voting related conferences, conduct voting outreach campaigns and translate materials into Spanish.

FOR FURTHER INFORMATION CONTACT: For further information or comments regarding this program supplement, contact Melvenia Wright, U.S. Department of Health and Human Services, Administration for Community Living, Administration on Disabilities, Administration on Intellectual and Developmental Disabilities: telephone (202) 795-7472; email Melvenia.Wright@acl.hhs.gov.

Dated: July 26, 2018.
Lance Robertson,
Administrator and Assistant Secretary for Aging.

[FR Doc. 2018-16561 Filed 8-1-18; 8:45 am]

BILLING CODE 4154-01-P